NUCLEAR REGULATORY COMMISSION

[Docket Nos. 50-361 and 50-362; NRC-2013-0155]

Application and Amendment to Facility Operating License Involving Proposed No Significant Hazards Consideration Determination; San Onofre Nuclear Generating Station, Units 2 and 3

AGENCY: Nuclear Regulatory Commission.

ACTION: Notice of withdrawal.

ADDRESSES: Please refer to Docket ID NRC-2013-0155 when contacting the NRC about the availability of information regarding this document. You may access information related to this document, which the NRC possesses and are publicly available, using any of the following methods:

• Federal rulemaking Web site: Go to http://www.regulations.gov and search for Docket ID NRC-2013-0155. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Brian Benney, Senior Project Manager, Office of Nuclear Reactor Regulation, U.S. Nuclear Regulatory Commission, Washington, DC 20555-0001; telephone: 301-415-2767; email: Brian.Benney@nrc.gov.

SUPPLEMENTARY INFORMATION: The U.S. Nuclear Regulatory Commission (NRC) has granted the request of Southern California Edison (the licensee) to withdraw its application dated July 29, 2011 (ADAMS Accession No. ML11215A090), as supplemented by letters dated September 14, 2012, September 27, 2012, September 28, 2012, November 5, 2012, February 15, 2013, March 19, 2013, and April 11, 2013 (ADAMS Accession Nos.: ML12263A300, ML12275A418, ML12272A092, ML12310A408, ML13051A451, ML13081A019, and ML13105A199, respectively), for proposed amendments to Facility Operating License Nos. NPF-10 and NPF-15 for the San Onofre Nuclear Generating Station (SONGS), Units 2 and 3, respectively, located in San Diego County, California.

The proposed amendments would have revised a number of Technical Specification (TS) requirements, to allow the licensee to use AREVA 16x16 reactor fuel on a permanent basis in SONGS, Units 2 and 3. These changes included revising TS 5.7.1.5, Core Operating Limits Report (COLR), to update the methodology reference list to support the core design with the new AREVA fuel; revising TS 4.2.1, Fuel Assemblies, to include the description of the new fuel cladding material (M5); revising TS 2.1.1.2, Reactor Safety Limits, to identify a fuel centerline melt safety limit for the AREVA fuel with corresponding adjustments made to account for the burnable absorber fuel rods; and incorporating fuel burnup limits consistent with AREVA M5 clad fuel assemblies into the SONGS licensing basis.

The Commission had previously issued a Notice of Consideration of Issuance of Amendment published in the Federal Register on February 14, 2012 (76 FR 8292). However, by letter dated July 1, 2013 (ADAMS Accession No. ML13183A412), the licensee withdrew the proposed change.For further details with respect to this action, see the application for amendment dated July 29, 2011, as supplemented by letters dated September 14, 2012, September 27, 2012, September 28, 2012, November 5, 2012, February 15, 2013, March 19, 2013, and April 11, 2013, and the licensee's letter dated July 1, 2013, which withdrew the application for license amendment.

Dated at Rockville, Maryland, this 8th day of July, 2013.
For the Nuclear Regulatory Commission.
Brian Benney,
Senior Project Manager, SONGS Special Projects Branch, Division of Operating Reactor Licensing, Office of Nuclear Reactor Regulation.

[FR Doc. 2013-16854 Filed 7-12-13; 8:45 am]

BILLING CODE 7590-01-P